SECURITIES AND EXCHANGE COMMISSION

[File No. 500-1]

In the Matter of Indocan Resources, Inc.; Order of Suspension of Trading

May 24, 2012.

It appears to the Securities and Exchange Commission that there is a lack of current and accurate information concerning the securities of Indocan Resources, Inc. (“IDCN”) because of questions concerning the adequacy of publicly available information about the company.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on May 24, 2012 through 11:59 p.m. EDT, on June 7, 2012.

By the Commission.
Elizabeth M. Murphy,
Secretary.

[FR Doc. 2012-13012 Filed 5-24-12; 4:15 pm]

BILLING CODE 8011-01-P